DEPARTMENT OF AGRICULTURE

Forest Service

Site-Specific Invasive Plant Treatment Project—Mt. Hood National Forest and Columbia River Gorge National Scenic Area; Oregon

AGENCY: Forest Service, USDA.

ACTION: Notice of intent to prepare an environmental impact statement.

SUMMARY: The USDA Forest Service will prepare an Environmental Impact Statement (EIS) to document and disclose the potential environmental effects of proposed invasive plant treatments. The Proposed Action is to apply manual, mechanical, biological, and/or herbicide treatments to control known invasive plant sites within approximately 13,000 acres (208 sites) on the Mt. Hood National Forest and southern Columbia River Gorge National Scenic Area in Oregon. The Proposed Action would also establish criteria for responding to infestations that cannot be predicted. This notice of intent revises the Notice to Intent to prepare an EIS announced in the Federal Register on February 23, 2004; more information will be submitted at a later date for the National Forest System lands in Washington.

DATES: Comments concerning the scope of this analysis must be received no later than May 31, 2005, to ensure they are fully incorporated into the Draft EIS.

ADDRESSES: Submit written comments to Jennie O'Connor, Mt. Hood National Forest, 16400 Champion Way, Sandy OR 97055. Electronic comments can be submitted to comments-pacificnorthwest-mthood@fs.fed.us.

FOR FURTHER INFORMATION CONTACT: Jennie O'Connor, Natural Resource Planner, Mt. Hood National Forest, 16400 Champion Way, Sandy OR 97055 or by emailing jmoconnor@fs.fed.us or by calling (503) 668-1645.

SUPPLEMENTARY INFORMATION:

Need for the Proposal

Invasive plants are compromising our ability to manage the National Forest for a healthy native ecosystem. Invasive plants create a host of environmental and other effects, most of which are harmful to native ecosystem processes, including: displacement of native plants; reduction in functionality of habitat and forage for wildlife and livestock; loss of threatened, endangered, and sensitive species; increased soil erosion and reduced water quality; alteration of physical and biological properties of soil, including reduced soil productivity; changes to the intensity and frequency of fires; high cost (dollars spent) of controlling invasive plants; and loss of recreation opportunities.

Approximately 3,000 acres of forests and grasslands are known to already be degraded on the Mt. Hood National Forest and Columbia River Gorge National Scenic Area by infestations of invasive, non-native plants. These infestations are situated on about 208 individual locations or sites. These infestations have a high potential to expand and further degrade forests and grasslands. Infested areas represent potential seed sources for further invasion onto neighboring lands.

There is an underlying need on these National Forest System lands for: (1) Reduce the extent of specific invasive plants at identified sites; and (2) timely treat new/additional invasive plant sites that may appear in the future. Without action, invasive plant populations will continue to grow, compromising our ability to manage for healthy native ecosystems and contributing to the spread of invasive plants.

Proposed Action

The Proposed Action for this project is to treat approximately 13,000 infested acres and associated spread zones on the Mt. Hood National Forest and southern Columbia River Gorge National Scenic Area in Oregon. This includes 7 proposed treatment areas (2,000 acres) in the National Scenic Area, with the remainder of the sites on Mt. Hood National Forest. Treatment of these invasive plant sites would be a combination of manual, mechanical, biological, and herbicide treatment methods. Through the development long-term site goals, treatment of infested areas would be linked to revegetation and monitoring. Treatment would address 21 invasive plant species present on these sites.

Site-specific treatment prescriptions would be based on the biology of particular invasive plant species, site location, proximity to water, and size of the infestation. Prescriptions would follow integrated pest management principles. Integrated pest management (IPM) is a process by which one selects and applies a combination of management techniques (manual, mechanical, biological for example) that, together, would control a particular invasive plant species or infestation efficiently and effectively, with minimum adverse impacts to non-target organisms. IPM seeks to combine two or more management techniques which would interact to provide better control than any one of the actions might provide alone. It is typically species-specific, site-specific and designed to be practical with minimal risk.

On Mt. Hood National Forest and Columbia River Gorge National Scenic Area, the proposed action includes approximately 20 acres of biological treatment, 30 acres of herbicide only treatment, 510 acres of herbicide plus manual treatments, 2025 acres of herbicide plus mechanical treatments, 130 acres of manual plus mechanical treatments, and 10385 acres of herbicide plus manual and mechanical treatments. Treatments may be repeated over several years until control/restoration objectives are met. The proportion of specific treatment methods may change over time.

In addition, a set of criteria that can be used for future invasive plant sites that may occur would also be established under the Proposed Action. Sites that are discovered subsequent to completion of this assessment would require evaluation and potential treatment. If the effects were found to be within the scope of this assessment, then these new populations would also be treated. Criteria would be designed to prescribe the potential treatment methods that would be effective and consistent within certain types of sites. For new sites, yet unidentified, only high priority invasive plants would be treated.

Maps of the proposed treatment sites and additional information on the proposal are available by contacting Jennie O'Connor, Mt. Hood National Forest (see above).

Proposed Scoping

Public participation is an important part of the analysis. The Forest Service is seeking information, comments, and assistance from Federal, State and local agencies, tribes, and other individuals or organizations that may be interested in or affected by the proposed action. Comments submitted during the scoping process should be in writing, and they should be specific to the action being proposed and should describe as clearly and completely as possible any issues the commenter has with the proposal. This input will be used in preparation of the draft EIS.

Comments submitted during the scoping conducted for the “Invasive Plant Treatment Project—Olympic, Gifford Pinchot, and Mt. Hood Nationals Forests and Columbia River Gorge National Scenic Area; Oregon and Washington” from February 23 to April 5, 2004 will be retained and considered in the development of this EIS. If you have additional comments on the revised proposed action these will be considered in conjunction with the previous comments.

In addition to this scoping, the public may visit Forest Service officials at any time during the analysis and prior to the decision. To facilitate public participation additional scoping opportunities will include: A scoping letter, public meetings (dates and locations yet to be determined), and Web sites with addresses http://www.fs.fed.us/r6/invasiveplant-eis/multiforest-sitespecific-information.htm and http://www.fs.fed.us/r6/mthood/projects/.

Preliminary Issues Identified to Date

The potential for impacts/effects as a result of the establishment and spread of invasive plants and the potential for impacts/effects as a result of treatment actions designed to manage invasive plants are both important considerations that need to be addressed in the analysis. The following issues were identified during the initial scoping process:

• Human Health—Invasive plant treatments may result in health risks to forestry workers and the public, including contamination of drinking water.

• Treatment Effectiveness—Invasive plant treatments can vary in effectiveness. The presence and spread of invasive plants within National Forest System lands may affect the presence and spread of invasive plants on neighboring ownerships.

• Social and Economic—Invasive plant treatments vary in cost and affect the acreage that can be effectively treated each year given a set budget. Manual treatment methods may cost more per acre and provide more employment.

• Non-Target Plants and Animals—Impacts to non-target plant and animal species varies by invasive plant treatments. Mitigation and protection measures need to protect plant and animal species from the adverse effects of the proposed action.

• Soils, Water Quality and Aquatic Biota—Soil and ground disturbing impacts, effects to aquatic organisms, and water quality impacts vary by invasive plant treatments.

Alternatives Considered

The No Action alternative will serve as a baseline for comparison of alternatives. Under the No Action alternative, Mt. Hood National Forest and the Columbia River Gorge National Scenic Area would continue to treat invasive plant species as authorized under existing National Environmental Policy Act (NEPA) documents. As approved by NEPA decisions, 450 acres of herbicide treatments, 100 acres of manual treatments, and 10 acres of mechanical treatment are applied each year on Mt. Hood National Forest. As approved by NEPA decisions, approximately 150 acres using herbicide treatments, 25 acres using manual treatments, and 500 acres using mechanical treatment are applied each year on the Columbia River Gorge National Scenic Area. The proposed action, as described above will be considered as an alternative. Additional alternatives may be developed to address key issues identified in the scoping and public involvement process.

Estimated Dates for Draft and Final EIS

The draft EIS is expected to be filed with the Environmental Protection Agency (EPA) and to be available for public comment by January 2006. The comment period on the draft EIS will be 45 days from the date the EPA publishes the notice of availability in the Federal Register.

The Forest Service believes, at this early stage, it is important to give reviewers notice of several court rulings related to public participation in the environmental review process. First, reviewers of the draft EIS must structure their participation in the environmental review of the proposal so that it is meaningful and alerts an agency to the reviewer's position and contentions. Vermont Yankee Nuclear Power Corp. v. NRDC. 435 U.S. 519.553 (1978). Also, environmental objectives that could be raised at the draft EIS stage but that are not raised until after the completion of the final EIS may be waived or dismissed by the courts. City of Angoon v. Hodel, 803 F. 2d 1016, 1022 (9th Cir. 1986) and Wisconsin Heritage, Inc. v. Harris, 490 F. Supp. 1334 (E.D. Wis. 1980). Because of these court rulings, it is very important that those interested in this proposed action participate by the close of the 45-day comment period; so that substantive comments and objections are made available to the Forest Service at a time when it can meaningfully consider them and respond to them in the final EIS.

To assist the Forest Service in identifying and considering issues and concerns on the proposed action, comments on the draft EIS should be as specific as possible. It is also helpful if the comments refer to specific pages or chapters of the draft statement. Comments may also address the adequacy of the draft EIS or the merits of the alternatives formulated and discussed in the statement. Reviewers may wish to refer to the Council on Environmental Quality Regulations for implementing the procedural provision of the National Environmental Policy Act (40 CFR 1503.3).

Comments received in response to this solicitation, including names and addresses of those who comment, will be considered part of the public record on this proposed action and will be available for public inspection. Comments submitted anonymously will be accepted and considered; however, those who submit anonymous comments may not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Comments on the draft EIS will be analyzed, considered, and responded to by the Forest Service in preparing the final EIS. The final EIS is scheduled to be completed in May 2006. There will be two responsible officials for this EIS. Duties of the Responsible Official will be shared between Gary Larsen, Forest Supervisor of the Mt. Hood National Forest, and Daniel Harkenrider, Area Manager of the Columbia River Gorge National Scenic Area. They will consider comments, responses, environmental consequences discussed in the final EIS, and applicable laws, regulations, and policies in making a decision regarding this proposed action. The responsible officials will document the decision and rationale for the decision in the Record of Decision. It will be subject to Forest Service Appeal Regulations (36 CFR Part 215).

Dated: April 22, 2005.
Gary L. Larsen,
Forest Supervisor, Mt. Hood National Forest.
Dated: April 22, 2005.
Daniel T. Harkenrider,
Area Manager, Columbia River Gorge National Scenic Area.

[FR Doc. 05-8577 Filed 4-28-05; 8:45 am]

BILLING CODE 3410-11-M